DEPARTMENT OF COMMERCE

National Oceanic and Atmospheric Administration

[RTID 0648-XE981]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Maine Center for Coastal Fisheries. Regulations under the Magnuson-Stevens Fishery Conservation and Management Act require publication of this notification to provide interested parties the opportunity to comment on applications for proposed EFPs.

DATES: Comments must be received on or before July 3, 2025.

ADDRESSES: You may submit written comments by email: nmfs.gar.efp@noaa.gov. Include in the subject line “EGOM Sentinel Survey.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, (978) 281-9185.

SUPPLEMENTARY INFORMATION: The applicant submitted a complete application for an EFP to conduct fishing activities that the regulations would otherwise restrict. This EFP would exempt the participating vessels from the following Federal regulations:

Table 1—Requested Exemptions
CFR citation | Regulation | Need for exemption
50 CFR 648.4 (a)(1) | Requirement for vessels fishing for, possessing, or landing multispecies finfish to have been issued a valid Federal Northeast (NE) multispecies permit | To allow the American lobster-permitted vessel to fish for and temporarily possess cod and pollock for biological sampling, and to land a small amount of lethally sampled cod for personal use.
§ 648.4(a)(5)(iii) | Requirement for vessels fishing for, possessing, or landing Atlantic mackerel to have been issued a valid Federal mackerel vessel permit | To allow all participating vessels to fish for and temporarily possess Atlantic mackerel for biological sampling.
§ 648.82(a) | Vessels issued a limited access NE multispecies permit may not fish for, possess, or land regulated species, except during Day(s) at Sea (DAS) | To allow the multispecies Category A vessel to conduct EFP-related activities without having to use a DAS.
§ 648.83(a) | Restriction against fishing for, possessing, or landing cod or pollock less than 19 inches (48.3 cm) | To allow all participating vessels to sample all sizes of cod and pollock caught during surveys, and to land a small amount of lethally sampled cod for personal use.
§ 648.86(o)(1) | Regional Administrator Authority to implement possession limits (common pool) | To allow the multispecies Handgear B vessel to catch and retain cod as prescribed by the survey design if the possession limit is reduced or a trimester Total Allowable Catch area is closed as an accountability measure.

Table 2—Project Summary
Project title | Eastern Gulf of Maine (EGOM) Sentinel Survey.
Project start | 07/15/2025.
Project end | 10/31/2025.
Project objectives | Survey the groundfish, particularly cod, resource in the waters of Eastern Maine, with a focus on evaluating local ecological knowledge of cod distribution for potential inclusion in future stock assessment work.
Project location | Bound on the west by Penobscot Bay and on the east by the Canadian border; extends south to the 50 meter (m) bathymetric edge, overlapping with Statistical Areas 511 and 512.
Number of vessels | 3.
Number of trips | 15.
Trip duration (days) | 1.
Total number of days | 15.
Gear type(s) | Rod and reel jigging.
Number of tows or sets | Up to 40 sets per trip; up to 450 sets total.
Duration of tows or sets | Up to 5 minutes.

Project Narrative

This project would continue an ongoing jig survey of the groundfish resource in the Eastern Gulf of Maine (EGOM), going back to 2011. The Atlantic Cod Stock Assessment Workshop identified cod in Statistical Areas 511 and 512 as a separate biological stock, and, as a result, the research track has accepted the Sentinel Survey's inshore jig time series for inclusion as a recruitment index for the EGOM stock unit's assessment.

The EFP would authorize 3 vessels to conduct random stratified sampling using jig gear from 0-50 m at 36 sites, plus 9 fishermen's choice sites within the study area, for a total of 45 sites. Jig gear consists of a 16- or 26-oz (453.6- or 737.1-gram) Norwegian style diamond jig with three teaser hooks, spaced at 15 inches (38.1 centimeters (cm)) apart. At each site, two anglers would execute five 5-minute jig drops within one hour. Gear would be retrieved upon the first bite or at the 5-minute mark, whichever comes first.

All species captured would be weighed and measured. Photos and fin clips would be collected from all cod, and a subset of cod would have otoliths and stomach samples collected. Catch that are lethally sampled could be landed for personal use. All other catch would be returned to the ocean once sampling is complete. Scientific personnel from Maine Center for Coastal Fisheries would be aboard the vessels to conduct sampling activities. No catch would be landed for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 16, 2025.
Kelly Denit,
Director, Office of Sustainable Fisheries, National Marine Fisheries Service.

[FR Doc. 2025-11242 Filed 6-17-25; 8:45 am]

BILLING CODE 3510-22-P